DEPARTMENT OF TRANSPORTATION

Federal Aviation Administration

Notice of Availability of the Draft Programmatic Environmental Assessment and Finding of No Significant Impact for Implementation of the Modernization of Special Airworthiness Certification Rule

AGENCY: Federal Aviation Administration (FAA), DOT.

ACTION: Notice of availability; request for comments.

SUMMARY: The Federal Aviation Administration (FAA) announces that the Draft Programmatic Environmental Assessment and Finding of No Significant Impact (Draft PEA) for Implementation of the Modernization of Special Airworthiness Certification Rule is available for public review and comment.

DATES: Send comments on or before June 26, 2025.

FOR FURTHER INFORMATION CONTACT: For questions concerning this action, contact Christopher Couture, Environmental Protection Specialist, FAA Aviation Safety, Office of Quality, Integration, and Executive Services, AQS-330.; email 9-AVS-AIR-MOSAICFeedback@faa.gov.

ADDRESSES: Send comments with the subject line, “Public Comment on Draft MOSAIC PEA” on all submitted correspondence using the following method. Email comments to 9-AVS-AIR-MOSAICFeedback@faa.gov.

Privacy: The FAA will post all comments it receives, without change, including any personal information the commenter provides, to the Final PEA, along with the FAA's response to those comments. For additional information, the applicable system of records notice (SORN), DOT/ALL-14, 73 FR 3316 (Jan. 17, 2008), can be reviewed at https://www.govinfo.gov/content/pkg/FR-2008-01-17/pdf/E8-785.pdf.

SUPPLEMENTARY INFORMATION:

Background

On July 24, 2023, the FAA published a proposed rule titled “Modernization of Special Airworthiness Certification” (MOSAIC) in the Federal Register to amend regulations for the manufacture, certification, operation, maintenance, and alteration of light-sport category aircraft, and other amendments (88 FR 47650, Docket No. FAA-2023-1377).

The Draft Programmatic Environmental Assessment (PEA) analyzes and discloses the potential environmental impacts associated with implementation of the MOSAIC rule, pursuant to the National Environmental Policy Act (NEPA). A categorical exclusion was applied to FAA's action to issue the proposed rule and provide notice in the Federal Register (88 FR 47722).

The MOSAIC rule would establish requirements for aircraft, other than unmanned aircraft, that hold special airworthiness certificates, airmen that operate and maintain those aircraft, and supporting rules. The rule would enable the FAA to certificate light-sport category aircraft, sport pilots, and light-sport repairmen at the appropriate level of rigor and privilege. The rule aims to increase the availability of safe, modern, and affordable aircraft for recreational aviation, flight training, and certain aerial work.

Under the proposed action, manufacturers of light-sport aircraft may design and manufacture a broader array of aircraft including additional classes of aircraft such as rotorcraft and powered-lift, and aircraft with increased seating, without weight limits, higher speeds, new types of propulsion systems, new propeller types, retractable landing gear, and aircraft with simplified flight controls. Sport pilot privileges would be expanded to include a broader array of aircraft and add new privileges. New privileges for sport pilots would include operating helicopters, operating at night, operating aircraft with retractable landing gear, operating aircraft with constant speed propellers, and operating high-performance airplanes. These new privileges would be available via training and endorsements. Repairman (light-sport) certificate privileges also would be expanded to allow work on all aircraft in the expanded categories of light-sport aircraft.

The proposed action would revise operating limitations for restricted category aircraft, experimental aircraft, and light-sport category aircraft. The rule would also codify a Congressional mandate to enable certain aircraft with an experimental airworthiness certificate to operate commercially as space support vehicles without an air carrier certificate or exemption. The rule would establish a new purpose for issuance of an experimental airworthiness certificate to former military aircraft to improve alignment between certain operations of former military aircraft and the experimental airworthiness certificates which authorize their operation. The rule would also increase the duration of certain experimental airworthiness certificates from one to three years. Additionally, except for non-powered aircraft, agricultural aircraft, and fire-fighting aircraft, the proposed rule would expand the applicability of noise requirements under part 36 of title 14 of the Code of Federal Regulations to new light-sport aircraft and certain alterations that increase noise in used light-sport aircraft and certain used experimental light-sport category aircraft. The rule would allow options for compliance: conventional noise testing per part 36 or a means of compliance specified in FAA-approved, industry consensus standards.

The environmental impacts of implementing these proposed MOSAIC rule changes have been considered in a manner consistent with the provisions of NEPA, as amended (42 U.S.C. 4321 et seq.) and FAA Order 1050.1F, Environmental Impacts: Policies and Procedures.

Based on the analysis provided in the Draft PEA, the FAA has preliminarily determined in a proposed finding of no significant impact that there will not be a significant impact to the human environment. As a result, an Environmental Impact Statement (EIS) has not been initiated. 42 U.S.C. 4336e(7). The FAA intends for this PEA to create efficiencies by establishing a framework that can be used for “tiering,” where appropriate, to future FAA actions that require additional analysis beyond the scope of this PEA. As decisions on future FAA actions are made, to the extent additional NEPA analysis is required, environmental review will be conducted to supplement the analysis set forth in this PEA.

The Draft PEA is available for review online at the following link: https://www.regulations.gov/docket/FAA-2023-1377/document.

Comments Invited

The FAA invites interested stakeholders to submit comments on the Draft PEA, as specified in the ADDRESSES section of this Notice. Commenters should include the subject line, “Public Comment on Draft MOSAIC PEA” on all comments submitted to the FAA. All comments must be provided in English.

The FAA will accept comments in Word, PDF, or email body. No business proprietary information, copyrighted information, or personally identifiable information should be submitted in response to this request. Please be aware that comments submitted may be posted on a Federal website or otherwise released publicly.

The most helpful comments reference a specific recommendation, explain the reason for any recommended change, and include supporting information. The FAA will consider all comments received on or before the closing date. The FAA will also consider late filed comments if it is possible to do so without incurring expense or delay.

Issued in Washington, DC.
Brian Cable,
Manager, Organization and System Policy Branch, Policy and Standards Division, Aircraft Certification Service.

[FR Doc. 2025-09456 Filed 5-23-25; 8:45 am]

BILLING CODE 4910-13-P